DEPARTMENT OF ENERGY

Federal Energy Regulatory Commission

Combined Notice of Filings #1

November 9, 2010.

Take notice that the Commission received the following exempt wholesale generator filings:

Docket Numbers: EG11-9-000.

Applicants: PSEG New Haven LLC.

Description: Notice of Self-Certification of exempt wholesale generator of PSEG New Haven LLC.

Filed Date: 11/08/2010.

Accession Number: 20101108-5080.

Comment Date: 5 p.m. Eastern Time on Monday, November 29, 2010.

Take notice that the Commission received the following electric rate filings:

Docket Numbers: ER99-2541-010.

Applicants: Carthage Energy, LLC.

Description: Tariff Sheets for Carthage Energy, LLC, FERC Electric Tariff, Third Revised Volume No. 1, inception to date.

Filed Date: 11/09/2010.

Accession Number: 20090110-0834.

Comment Date: 5 p.m. Eastern Time on Tuesday, November 30, 2010.

Docket Numbers: ER01-1764-007.

Applicants: PEI Power II LLC.

Description: Tariff Sheets for PEI Power II, LLC, FERC Electric Tariff, First Revised Volume 1, inception to date.

Filed Date: 11/09/2010.

Accession Number: 20090110-0846.

Comment Date: 5 p.m. Eastern Time on Tuesday, November 30, 2010.

Docket Numbers: ER11-1944-001.

Applicants: PJM Interconnection, L.L.C.

Description: PJM Interconnection, L.L.C. submits DomVa Termination Deferral Recovery Charge—ATT H-16E, to be effective 1/1/2011.

Filed Date: 11/05/2010.

Accession Number: 20101105-5074.

Comment Date: 5 p.m. Eastern Time on Friday, November 26, 2010.

Docket Numbers: ER11-1988-001.

Applicants: PJM Interconnection, L.L.C.

Description: PJM Interconnection, L.L.C. submits tariff filing per 35.17(b): Amendment to ER11-1988-000 to be effective 1/1/2011.

Filed Date: 11/05/2010.

Accession Number: 20101105-5148.

Comment Date: 5 p.m. Eastern Time on Friday, November 26, 2010.

Docket Numbers: ER11-1997-001.

Applicants: Ohio Power Company.

Description: Ohio Power Company submits tariff filing per 35.17(b): OPCo Rate Schedule 101 to be effective 1/1/2011.

Filed Date: 11/05/2010.

Accession Number: 20101105-5043.

Comment Date: 5 p.m. Eastern Time on Friday, November 26, 2010.

Docket Numbers: ER11-2028-001.

Applicants: EDF Industrial Power Services (IL), LLC.

Description: EDF Industrial Power Services (IL), LLC submits tariff filing per 35.17(b): Market Based Rate Tariff Amendment to be effective 9/22/2010.

Filed Date: 11/05/2010.

Accession Number: 20101105-5121.

Comment Date: 5 p.m. Eastern Time on Friday, November 26, 2010.

Docket Numbers: ER10-2411-001.

Applicants: Meadow Lake Wind Farm III LLC.

Description: Meadow Lake Wind Farm III LLC submits its baseline tariff sheets, to be effective 8/26/2010.

Filed Date: 11/08/2010.

Accession Number: 20101108-5043.

Comment Date: 5 p.m. Eastern Time on Monday, November 29, 2010.

Docket Numbers: ER10-2412-001.

Applicants: Meadow Lake Wind Farm IV LLC.

Description: Meadow Lake Wind Farm IV LLC submits tariff filing per 35: Meadow Lake Wind Farm IV LLC MBR Tariff to be effective 8/26/2010.

Filed Date: 11/08/2010.

Accession Number: 20101108-5044.

Comment Date: 5 p.m. Eastern Time on Monday, November 29, 2010.

Docket Numbers: ER10-3024-001.

Applicants: Pace Global Asset Management, LLC.

Description: Pace Global Asset Management, LLC submits tariff filing per 35: Market Baseline to be effective 9/27/2010.

Filed Date: 11/09/2010.

Accession Number: 20101109-5047.

Comment Date: 5 p.m. Eastern Time on Tuesday, November 30, 2010.

Docket Numbers: ER10-3046-001.

Applicants: Camp Grove Wind Farm LLC.

Description: Camp Grove Wind Farm LLC submits tariff filing per 35: Camp Grove MBR Baseline to be effective 9/27/2010.

Filed Date: 11/09/2010.

Accession Number: 20101109-5016.

Comment Date: 5 p.m. Eastern Time on Tuesday, November 30, 2010.

Docket Numbers: ER11-2046-000.

Applicants: MATEP LLC.

Description: MATEP LLC submits revisions to its market-based rate tariff, to be effective 9/29/2010.

Filed Date: 11/08/2010.

Accession Number: 20101108-5079.

Comment Date: 5 p.m. Eastern Time on Monday, November 29, 2010.

Docket Numbers: ER11-2047-000.

Applicants: MATEP Limited Partnership.

Description: MATEP Limited Partnership submits tariff filing per 35: MATEP Limited Partnership Revised MBR Tariff to be effective 9/29/2010.

Filed Date: 11/08/2010.

Accession Number: 20101108-5082.

Comment Date: 5 p.m. Eastern Time on Monday, November 29, 2010.

Docket Numbers: ER11-2048-000.

Applicants: New York Independent System Operator, Inc.

Description: New York Independent System Operator, Inc. submits tariff filing per 35: Compliance Filing order 890 OATT Attachment C ATC filing—Patka 11/08/10 to be effective 6/30/2010.

Filed Date: 11/08/2010.

Accession Number: 20101108-5104.

Comment Date: 5 p.m. Eastern Time on Monday, November 29, 2010.

Docket Numbers: ER11-2048-001.

Applicants: New York Independent System Operator, Inc.

Description: New York Independent System Operator, Inc. submits tariff filing per 35: compliance filing resubmission ATC Attachment C OATT to be effective 4/1/2011.

Filed Date: 11/08/2010.

Accession Number: 20101108-5181.

Comment Date: 5 p.m. Eastern Time on Monday, November 29, 2010.

Docket Numbers: ER11-2049-000.

Applicants: UNS Electric, Inc.

Description: UNS Electric, Inc. submits tariff filing per 35.1: Amended and Restated Non-Firm Interchange Agreement Between UNSE and Aha MaCav to be effective 11/9/2010.

Filed Date: 11/08/2010.

Accession Number: 20101108-5107.

Comment Date: 5 p.m. Eastern Time on Monday, November 29, 2010.

Docket Numbers: ER11-2049-000.

Applicants: UNS Electric, Inc.

Description: UNS Electric, Inc. submits tariff filing per: Supplemental Information in Docket No. ER11-2049 to be effective N/A.

Filed Date: 11/08/2010.

Accession Number: 20101108-5182.

Comment Date: 5 p.m. Eastern Time on Monday, November 29, 2010.

Docket Numbers: ER11-2050-000.

Applicants: The Dayton Power and Light Company.

Description: The Dayton Power and Light Company submits tariff filing per 35.1: FERC Rate Schedule No. 41, City of Piqua to be effective 11/8/2010.

Filed Date: 11/08/2010.

Accession Number: 20101108-5112.

Comment Date: 5 p.m. Eastern Time on Monday, November 29, 2010.

Docket Numbers: ER11-2051-000.

Applicants: Pure Energy Inc.

Description: Pure Energy Inc. submits tariff filing per 35: Pure Energy, Inc. FERC Electric Market Based Rate Tariff to be effective 11/8/2010.

Filed Date: 11/08/2010.

Accession Number: 20101108-5156.

Comment Date: 5 p.m. Eastern Time on Monday, November 29, 2010.

Docket Numbers: ER11-2052-000.

Applicants: PJM Interconnection, L.L.C.

Description: PJM Interconnection, L.L.C. submits tariff filing per 35.13(a)(2)(iii): WMPA No. 2659, Queue V4-069, Flemington Solar, LLC and JCPL to be effective 10/12/2010.

Filed Date: 11/08/2010.

Accession Number: 20101108-5179.

Comment Date: 5 p.m. Eastern Time on Monday, November 29, 2010.

Docket Numbers: ER11-2053-000.

Applicants: Midwest Independent Transmission System Operator, Inc.

Description: Midwest Independent Transmission System Operator, Inc. submits tariff filing per 35.13(a)(2)(iii): 11-8-10 Interface LMP Filing to be effective 11/9/2010.

Filed Date: 11/08/2010.

Accession Number: 20101108-5180.

Comment Date: 5 p.m. Eastern Time on Monday, November 29, 2010.

Docket Numbers: ER11-2054-000.

Applicants: Ameren Illinois Company.

Description: Ameren Illinois Company submits tariff filing per 35.13(a)(2)(iii): Amendment to Rate Schedules and Agreements to be effective 12/31/9998.

Filed Date: 11/09/2010.

Accession Number: 20101109-5045.

Comment Date: 5 p.m. Eastern Time on Tuesday, November 30, 2010.

Docket Numbers: ER11-2055-000.

Applicants: Energy Plus Holdings LLC.

Description: Request for Waiver of Energy Plus Holdings LLC.

Filed Date: 11/09/2010.

Accession Number: 20101109-5058.

Comment Date: 5 p.m. Eastern Time on Tuesday, November 30, 2010.

Docket Numbers: ER11-2056-000.

Applicants: Constellation Mystic Power, LLC.

Description: Constellation Mystic Power, LLC submits tariff filing per 35.1: Baseline MBR Filing Constellation Mystic Power, LLC to be effective 11/9/2010.

Filed Date: 11/09/2010.

Accession Number: 20101109-5091.

Comment Date: 5 p.m. Eastern Time on Tuesday, November 30, 2010.

Docket Numbers: ER11-2057-000.

Applicants: OGE Energy Resources LLC.

Description: Notice of Cancellation of Cost-Based Power Sales Tariff and Request for Waiver of Notice Period of OGE Energy Resources LLC.

Filed Date: 11/09/2010.

Accession Number: 20101109-5096.

Comment Date: 5 p.m. Eastern Time on Tuesday, November 30, 2010.

Docket Numbers: ER11-2058-000.

Applicants: PJM Interconnection, L.L.C., Commonwealth Edison Company.

Description: PJM Interconnection, L.L.C. submits tariff filing per 35.13(a)(2)(iii): Interconnection Upgrade Agmt No. 2703 between ComEd and ATC to be effective 11/9/2010.

Filed Date: 11/09/2010.

Accession Number: 20101109-5116.

Comment Date: 5 p.m. Eastern Time on Tuesday, November 30, 2010.

Docket Numbers: ER11-2059-000.

Applicants: Midwest Independent Transmission System.

Description: Midwest Independent Transmission System Operator, Inc. submits tariff filing per 35.13(a)(2)(iii): 11-9-10 LTTR Filing to be effective 1/9/2011.

Filed Date: 11/09/2010.

Accession Number: 20101109-5118.

Comment Date: 5 p.m. Eastern Time on Tuesday, November 30, 2010.

Take notice that the Commission received the following electric securities filings:

Docket Numbers: ES11-7-000.

Applicants: Baltimore Gas and Electric Company.

Description: Amendment to Application of Baltimore Gas and Electric Company.

Filed Date: 11/09/2010.

Accession Number: 20101109-5038.

Comment Date: 5 p.m. Eastern Time on Friday, November 19, 2010.

Take notice that the Commission received the following foreign utility company status filings:

Docket Numbers: FC11-1-000.

Applicants: Covanta Burnaby Renewable Energy, Inc.

Description: Covanta Burnaby Renewable Energy, Inc's Notification of Self-Certification of Foreign Utility Company Status.

Filed Date: 11/08/2010.

Accession Number: 20101108-5196.

Comment Date: 5 p.m. Eastern Time on Monday, November 29, 2010.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St., NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed docket(s). For assistance with any FERC Online service, please e-mail FERCOnlineSupport@ferc.gov. or call (866) 208-3676 (toll free). For TTY, call (202) 502-8659.

Nathaniel J. Davis, Sr.,
Deputy Secretary.

[FR Doc. 2010-28918 Filed 11-16-10; 8:45 am]

BILLING CODE 6717-01-P